DEPARTMENT OF TRANSPORTATION

Coast Guard

33 CFR Part 117

[CGD01-01-036]

Drawbridge Operation Regulations: Chelsea River, MA

AGENCY: Coast Guard, DOT.

ACTION: Notice of temporary deviation from regulations.

SUMMARY: The Commander, First Coast Guard District, has issued a temporary deviation from the drawbridge operation regulations governing the operation of the Chelsea Street Bridge, at mile 1.2, across the Chelsea River between East Boston and Chelsea, Massachusetts. This deviation allows the bridge owner to keep the bridge in the closed position for four days to perform necessary maintenance at the bridge. This action is necessary to facilitate emergency maintenance at the bridge.

DATES: This deviation is effective from April 4, 2001 through May 19, 2001.

FOR FURTHER INFORMATION CONTACT: John W. McDonald, Project Officer, First Coast Guard District, at (617) 223-8364.

SUPPLEMENTARY INFORMATION: The Chelsea Street Bridge, at mile 1.2, across the Chelsea River, has a vertical clearance of 9 feet at mean high water, and 19 feet at mean low water in the closed position. The existing drawbridge operating regulations are listed at 33 CFR 117.593.

The bridge owner, the City of Boston, requested a temporary deviation from the drawbridge operating regulations to facilitate emergency structural maintenance and repairs at the bridge.

This deviation from the operating regulations allows the bridge owner to keep the bridge in the closed position as follows:

6 a.m. on April 4, 2001 through 6 a.m. on April 5, 2001;

6 a.m. on April 20, 2001 through 6 a.m. on April 21, 2001;

6 a.m. on May 4, 2001 through 6 a.m. on May 5, 2001; and

6 a.m. on May 18, 2001 through 6 a.m. on May 19, 2001.

The above bridge closures were discussed at a meeting with the waterway users and the Coast Guard on March 1, 2001. No objection to these closure dates were received.

Vessels that can pass under the bridge without an opening may do so at all times during the closed period.

In accordance with 33 CFR 117.35(c), this work will be performed with all due speed in order to return the bridge to normal operation as soon as possible. This deviation from the operating regulations is authorized under 33 CFR 117.35.

Dated: March 23, 2001.
G.N. Naccara,
Rear Admiral, U.S. Coast Guard, Commander, First Coast Guard District.

[FR Doc. 01-8183 Filed 4-3-01; 8:45 am]

BILLING CODE 4910-15-U